ENVIRONMENTAL PROTECTION AGENCY

[FRL-6930-4]

Science Advisory Board; Notification of Public Advisory Committee Meeting

Pursuant to the Federal Advisory Committee Act, Public Law 92-463, notice is hereby given that the Dioxin Reassessment Review Committee (DRRC) of the US EPA Science Advisory Board (SAB), may, depending on progress achieved in developing its report (see below), meet in a public teleconference on Tuesday, January 23, 2000 between 2 and 4:30 p.m. The meeting will be coordinated through a conference call connection in Room 6013 in the USEPA, Ariel Rios Building, 1200 Pennsylvania Avenue, NW, Washington, DC 20460. The public is encouraged to attend the meeting in the conference room noted above. However, a limited number of the public may also attend through a telephonic link, thirty-two lines have been reserved for this purpose. Additional instructions about how to participate in the meeting can be obtained by calling Ms. Wanda Fields prior to the meeting at (see contact information below).

Purpose of the Meeting—The Committee is planning a teleconference for the above noted date on a contingency basis. The teleconference will be convened only if, in the opinion of the DRRC Chair, it is needed to address issues that require further discussion prior to completion of the Committee's report. A decision as whether or not the teleconference (announced in this meeting notice) will be convened will be made by close of business, Friday, January 12, 2000, 11 days prior to the tentatively scheduled date. The decision on the teleconference will be posted to the SAB website (www.epa.gov/sab); or members of the public may call or email Ms. Wanda Fields at the telephone and email address provided below.

Availability of Review Materials—If the teleconference is to be held, a list of the issues to be discussed, along with a draft meeting agenda, will be posted on the SAB website (www.epa.gov/sab) under the Agenda heading on January 12, 2000. If the meeting is canceled, a notice will be posted on the SAB website to that effect as well.

For Further Information: Any member of the public wishing further information concerning this meeting should contact Mr. Samuel Rondberg, Designated Federal Officer, EPA Science Advisory Board (1400A), U.S. Environmental Protection Agency, 1200 Pennsylvania Avenue, NW, Washington, DC 20460; telephone (301) 812-2560, FAX (410) 286-2689; or via e-mail at: samuelr717@aol.com. Because of the limited time for discussion during the teleconference, oral comments from the public will not be taken (extensive oral comments were taken earlier at the November 1-2, 2000 meeting—see 65 FR 60190, dated October 10, 2000). Written comments may be submitted for consideration by the Committee, and should be sent to Ms. Wanda Fields, EPA Science Advisory Board, Mail Code 1400A, U.S. Environmental Protection Agency, 1200 Pennsylvania Ave., NW, Washington DC 20460. (Telephone (202) 564-4539, FAX (202) 501-0582; or via e-mail at fields.wanda@epa.gov). Comments should be supplied in the following formats: one hard copy with original signature (and 25 copies), and one electronic copy via e-mail to Mr. Rondberg or Ms. Fields (acceptable file formats: WordPerfect, Word, or Rich Text files (in IBM-PC/Windows 95/98 format). Written comments must arrive at the SAB no later than January 16, 2000. Please note that the Committee had earlier extended the period for accepting written comments. The date given above is the deadline for receipt of ALL written comments.

Meeting Access—Individuals requiring special accommodation at this meeting, including wheelchair access to the conference room, should contact Mr. Rondberg at least five business days prior to the meeting so that appropriate arrangements can be made.

Dated: December 21, 2000.
Donald G. Barnes,
Staff Director, Science Advisory Board.

[FR Doc. 01-464 Filed 1-5-01; 8:45 am]

BILLING CODE 6560-50-P